DEPARTMENT OF TRANSPORTATION

Federal Aviation Administration

14 CFR Part 39

[Docket No. FAA-2005-20794; Directorate Identifier 2004-NM-172-AD]

RIN 2120-AA64

Airworthiness Directives; Airbus Model A300 B2 and B4 Series Airplanes; Model A300 B4-600, B4-600R, and F4-600R Series Airplanes, and Model C4-605R Variant F Airplanes (Collectively Called A300-600 Series Airplanes); and Model A310 Series Airplanes

AGENCY: Federal Aviation Administration (FAA), Department of Transportation (DOT).

ACTION: Notice of proposed rulemaking (NPRM).

SUMMARY: The FAA proposes to supersede an existing airworthiness directive (AD) that applies to all Airbus Model A300 B2 and B4 series airplanes; Model A300-600 series airplanes; and Model A310 series airplanes. The existing AD currently requires, among other actions, repetitive tests to detect desynchronization of the rudder servo actuators, and adjustment or replacement of the spring rods of the rudder servo actuators, if necessary. This proposed AD would require new repetitive tests/inspections/analyses of the rudder servo actuators, and related investigative/corrective actions if necessary. Accomplishment of the new actions ends the existing repetitive requirements. This proposed AD is prompted by new reports of desynchronization of the rudder servo actuators. We are proposing this AD to prevent desynchronization of one of the three rudder servo actuators, which, if combined with an engine failure could result in the loss of the related hydraulic system and could cause the loss of one of the two synchronized actuators. This condition could create additional fatigue loading and possible cracking on the attachment fittings and could result in the inability of the remaining synchronized actuator to maintain the commanded rudder deflection, which could result in reduced controllability of the airplane.

DATES: We must receive comments on this proposed AD by May 5, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-20794; the directorate identifier for this docket is 2004-NM-172-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-20794; Directorate Identifier 2004-NM-172-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On June 16, 1998, we issued AD 98-13-33, amendment 39-10624 (63 FR 34580, June 25, 1998), for all Airbus Model A300 B2 and B4 series airplanes; Model A300 B4-600, B4-600R, and F4-600R series airplanes, and Model C4-605R variant F airplanes (collectively called A300-600 series airplanes); and Model A310 series airplanes. That AD requires repetitive tests to detect desynchronization of the rudder servo actuators, and adjustment or replacement of the spring rods of the rudder servo actuators, if necessary. For certain airplanes, that AD also requires repetitive inspections to detect cracking of the rudder attachments, and repair, if necessary; or modification of the rudder attachments. That AD was prompted by issuance of mandatory continuing airworthiness information by an international civil airworthiness authority. We issued that AD to detect and correct desynchronization of the rudder servo actuators, which could result in reduced structural integrity of the rudder attachments and reduced controllability of the airplane.

Actions Since Existing AD Was Issued

Since we issued AD 98-13-33, the Direction Générale de l'Aviation Civile (DGAC), which is the airworthiness authority for France, notified us that there have been new reports of desynchronization of the rudder servo actuators on in-service airplanes. The primary cause, which is not addressed by AD 98-13-33, is a malfunction or mis-adjustment of the input spring rods of the rudder servo actuators. With the hydraulic systems of all three rudder servo actuators pressurized, one desynchronized actuator, while having no noticeable effect on the operation of the rudder, could create an opposing force. This force is reacted by the structural attachments of the actuators and creates additional fatigue loading and possible cracking on the attachment fittings.

If a desynchronized rudder servo actuator is combined with an engine failure, the loss of the related hydraulic system could cause the loss of one of the two synchronized actuators. This condition could create additional fatigue loading and possible cracking on the attachment fittings and could result in the inability of the remaining synchronized actuator to maintain the commanded rudder deflection, which could result in reduced controllability of the airplane.

Relevant Service Information

Airbus has issued the following primary service bulletins:

Primary Service Bulletins
Airbus service bulletin— | For—
A300-27-0188, Revision 05, including Appendix 01 and Reporting Sheet, dated April 16, 2004 | Model A300 B2 and B4 series airplanes.
A300-27-6036, Revision 08, including Appendix 01 and Reporting Sheet, dated April 16, 2004 | Model A300-600.
A310-27-2082, Revision 05, including Appendix 01 and Reporting Sheet, dated April 16, 2004 | Model A310 series airplanes.

The primary service bulletins describe the following procedures:

1. Doing repetitive operational tests of the rudder system with each hydraulic system pressurized in turn;

2. Doing repetitive static inspections for correct synchronization of the rudder servo controls with each hydraulic system;

3. Doing repetitive inspections to find dead travel of the input lever of the rudder servo control for each hydraulic system;

4. Analyzing the results of each inspection;

5. Submitting a report to the airplane manufacturer; and

6. Doing any applicable related investigative/corrective actions if necessary. The related investigative actions include doing inspections of the attachment fittings of the rudder servo actuators for cracks when the limits are exceeded in accordance with the applicable secondary service bulletin described below, and contacting the airplane manufacturer for disposition of repairs if necessary. The corrective actions include adjusting the spring rods, replacing the spring rods with new spring rods, and replacing the rudder servo control with a new servo control.

Accomplishing the actions specified in the service information is intended to adequately address the unsafe condition. The DGAC mandated the service information and issued French airworthiness directive F-2004-092, issued June 23, 2004, to ensure the continued airworthiness of these airplanes in France.

The primary service bulletins refer to the following secondary service bulletins as additional sources of service information for accomplishing the related investigative actions for certain conditions:

Secondary Service Bulletins
Airbus service bulletin— | For—
A300-55-0044, Revision 03, dated April 16, 2004 | Model A300 B2 and B4 series airplanes.
A310-55-2026, Revision 02, dated April 16, 2004 | Model A310 series airplanes.
A300-55-6023, Revision 05, dated April 16, 2004 | Model A300-600.

FAA's Determination and Requirements of the Proposed AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 98-13-33. This proposed AD would retain the requirements of the existing AD. This proposed AD would also require accomplishing the actions specified in the primary service bulletins described previously, except as discussed under “Differences Between the Proposed AD and Primary Service Bulletins.”

Differences Between the Proposed AD and the Primary Service Bulletins

The primary service bulletins specify that you may contact the airplane manufacturer for instructions on how to repair certain conditions, but this proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Change to Existing AD

This proposed AD would retain all requirements of AD 98-13-33. Since AD 98-13-33 was issued, the AD format has been revised, and certain paragraphs have been rearranged. As a result, the corresponding paragraph identifiers have changed in this proposed AD, as listed in the following table:

Revised Paragraph Identifiers
Requirement in AD 98-13-33 | Corresponding requirement in this proposed AD
paragraph (a) | paragraph (f).
paragraph (b) | paragraph (g).
paragraph (c) | paragraph (h).

Costs of Compliance

The following table provides the estimated costs for U.S. operators to comply with this proposed AD. The average labor rate is $65 per hour.

Estimated Costs
Action | Work hour | Parts | Cost per airplane, per cycle | Number of U.S.-registered airplanes | Fleet cost (per cycle)
Tests (required by AD 98-13-13) | 1 | None | $65 | 179 | $11,635
Tests/inspections/analyses (new proposed actions) | 1 | None | 65 | 179 | 11,635

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10624 (63 FR 34580, June 25, 1998) and adding the following new airworthiness directive (AD):

Airbus: Docket No. FAA-2005-20794; Directorate Identifier 2004-NM-172-AD.

Comments Due Date

(a) The Federal Aviation Administration must receive comments on this AD action by May 5, 2005.

Affected ADs

(b) This AD supersedes AD 98-13-33, amendment 39-10624 (63 FR 34580, June 25, 1998).

Applicability

(c) This AD applies to all Airbus Model A300 B2 and B4 series airplanes; Model A300 B4-600, B4-600R, and F4-600R series airplanes, and Model C4-605R Variant F airplanes (collectively called A300-600); and Model A310 series airplanes; certificated in any category.

Unsafe Condition

(d) This AD was prompted by new reports of desynchronization of the rudder servo actuators. We are issuing this AD to prevent desynchronization of one of three rudder servo actuators, which, if combined with an engine failure, could result in the loss of the related hydraulic system and could cause the loss of one of the two synchronized actuators. This condition could create additional fatigue loading and possible cracking on the attachment fittings and could result in the inability of the remaining synchronized actuator to maintain the commanded rudder deflection, which could result in reduced controllability of the airplane.

Compliance

(e) You are responsible for having the actions required by this AD performed within the compliance times specified, unless the actions have already been done.

Requirements of AD 98-13-33

Repetitive Tests and Adjustment or Replacement

(f) Prior to accumulation of 1,300 total flight hours, or within 500 flight hours after July 30, 1998 (the effective date of AD 98-13-33), whichever occurs later, and thereafter at intervals not to exceed 1,300 flight hours: Perform a test to detect desynchronization of the rudder servo actuators in accordance with Airbus Service Bulletin A300-27-0188, Revision 2, dated October 1, 1997 (for Model A300 series airplanes); A300-27-6036, Revision 2, dated October 1, 1997 (for Model A300-600 series airplanes); or A310-27-2082, Revision 2, dated October 1, 1997 (for Model A310 series airplanes); as applicable. If any desynchronization (rudder movement) is detected, prior to further flight, either adjust or replace, as applicable, the spring rod of the affected rudder servo actuator in accordance with the applicable service bulletin.

Note 1: A test to detect desynchronization of the rudder servo actuators, if accomplished prior to the effective date of this AD in accordance with Airbus Service Bulletin A300-27-0188, dated October 24, 1996, or Revision 1, dated November 5, 1996 (for Model A300 series airplanes); A300-27-6036, dated October 24, 1996, or Revision 1, dated November 5, 1996 (for Model A300-600 series airplanes); or A310-27-2082, dated October 24, 1996, or Revision 1, dated November 5, 1996 (for Model A310 series airplanes); is considered acceptable for compliance with the initial test required by paragraph (f) of this AD.

(g) Except as provided by paragraph (h) of this AD, if any desynchronization (rudder movement) greater than the limit specified in Paragraph B of the Accomplishment Instructions of the applicable service bulletin is detected during any test required by paragraph (f), prior to further flight, accomplish either paragraph (g)(1) or (g)(2) of this AD, in accordance with Airbus Service Bulletin A300-55-0044, dated October 22, 1996 (for Model A300 series airplanes); A300-55-6023, dated October 22, 1996 (for Model A300-600 series airplanes); or A310-55-2026, dated October 22, 1996 (for Model A310 series airplanes); as applicable.

(1) Conduct a visual inspection, high frequency eddy current inspection, or ultrasonic inspection, as applicable, to detect cracking of the rudder attachments; and repeat the inspection thereafter, as applicable, at the intervals specified in the applicable service bulletin. Or

(2) Modify the rudder attachments to cold expand the rivet holes.

(h) If any crack is found during any inspection or modification required by paragraph (g) of this AD, and the applicable service bulletin specifies to contact Airbus for an appropriate action: Prior to further flight, repair the affected structure in accordance with a method approved by the Manager, International Branch, ANM-116, FAA, Transport Airplane Directorate, or in accordance with a method approved by the Direction Générale de l'Aviation Civile (DGAC).

New Requirements of This AD

Service Bulletins

(i) The term “primary service bulletin,” as hereafter used in this AD, means the Accomplishment Instructions of the applicable primary service bulletin in Table 1 of this AD.

Table 1.—Primary Service Bulletins
Airbus service bulletin— | For—
(1) A300-27-0188, including Appendix 01 and Reporting Sheet, Revision 05, dated April 16, 2004 | Model A300 B2 and B4 series airplanes.
(2) A300-27-6036, including Appendix 01 and Reporting Sheet, Revision 08, dated April 16, 2004 | Model A300-600 series airplanes.
(3) A310-27-2082, including Appendix 01 and Reporting Sheet, Revision 05, dated April 16, 2004 | Model A310 series airplanes.

(j) The primary service bulletin refers to the applicable secondary service bulletin in Table 2 of this AD as an additional source of service information for accomplishing the related investigative actions for certain conditions.

Table 2.—Secondary Service Bulletins
Airbus service bulletin— | For—
(1) A300-55-0044, Revision 03, dated April 16, 2004 | Model A300 B2 and B4 series airplanes.
(2) A310-55-2026, Revision 02, dated April 16, 2004 | Model A310 series airplanes.
(3) A300-55-6023, Revision 05, dated April 16, 2004 | Model A300-600 series airplanes.

Compliance Times

(k) Do the actions specified in paragraph (l) of this AD at the following times:

(1) Within 700 flight hours after the effective date of this AD or within 1,300 flight hours after the last inspection required by either paragraph (f) or (g) of this AD, whichever occurs first; and

(2) Thereafter at intervals not to exceed 1,300 flight hours.

Tests/Inspections/Analyses and Related Investigative/Corrective Actions

(l) Do the actions specified in paragraphs (l)(1) through (l)(4) of this AD and any applicable related investigative/corrective actions by doing all the actions in accordance with the primary service bulletin, except as required by paragraph (m) of this AD. Related investigative and corrective actions must be done before further flight. Accomplishing these actions ends the requirements of paragraphs (f) through (h) of this AD.

(1) Do an operational test of the rudder system with each hydraulic system pressurized in turn.

(2) Do a static inspection for correct synchronization of the rudder servo controls with each hydraulic system.

(3) Inspect to find dead travel of the input lever of the rudder servo control for each hydraulic system.

(4) Analyze the results of the static inspection required by paragraph (l)(2) of this AD and the inspection to find dead travel required by paragraph (l)(3) of this AD.

(m) If the primary/secondary service bulletin recommends contacting Airbus for appropriate action: Before further flight, repair any discrepancy in accordance with a method approved by either the Manager, International Branch, ANM-116, FAA, Transport Airplane Directorate; or the DGAC (or its delegated agent).

Reporting

(n) At the applicable time specified in paragraph (n)(1) or (n)(2) of this AD, submit a report in accordance with the primary service bulletin. Under the provisions of the Paperwork Reduction Act of 1980 (44 U.S.C. 3501 et seq.), the Office of Management and Budget (OMB) has approved the information collection requirements contained in this AD and has assigned OMB Control Number 2120-0056.

(1) If the action specified in the primary service bulletin was done after the effective date of this AD: Submit the report within 30 days after the inspection.

(2) If the action specified in the primary service bulletin was accomplished before the effective date of this AD: Submit the report within 30 days after the effective date of this AD.

Alternative Methods of Compliance (AMOCs)

(o)(1) The Manager, International Branch, ANM-116, has the authority to approve AMOCs for this AD, if requested in accordance with the procedures found in 14 CFR 39.19.

(2) AMOCs approved previously according to AD 98-13-33 are not approved as AMOCs with this AD.

Related Information

(p) French airworthiness directive F-2004-092, issued June 23, 2004, also addresses the subject of this AD.

Issued in Renton, Washington, on March 22, 2005.
Ali Bahrami,
Manager, Transport Airplane Directorate, Aircraft Certification Service.

[FR Doc. 05-6678 Filed 4-4-05; 8:45 am]

BILLING CODE 4910-13-P